DEPARTMENT OF THE INTERIOR

Fish and Wildlife Service

Notice of Availability of a “Lost Pines” Environmental Assessment/Habitat Conservation Plan for Assigned Permit Number TE-025997-0. For Issuance of an Endangered Species Act Section 10(a)(1)(B) Permit for the Incidental Take of the Endangered Houston Toad (Bufo houstonensis). During the Construction and Occupation of Single Family Residences (each on home-sites of 0.5 acres or less) in 45 subdivisions in Bastrop County, TX

SUMMARY: The U.S. Fish and Wildlife Service Office has prepared an Environmental Assessment/Habitat Conservation Plan for assigned permit number TE-025997-0 for issuance of an Endangered Species Act Section 10(a)(1)(B) permit for the incidental take of the Endangered Houston Toad. The Service proposes issuing endangered species permits to individual lot owners under an EA/HCP, where each permit would authorize the incidental take of the endangered Houston toad, directly or indirectly, from the construction and occupation of a single-family residence on an undeveloped lot in the 45 subdivisions covered under this EA/HCP. This alternative was selected as the Preferred Alternative as it will allow for responsible development of the lots while minimizing and offsetting impacts to the Houston toad by providing for on-site and off-site conservation measures that will be used to promote the long-term survival of the species. It is also considered to provide the most simplified, expeditious, and effective process by which landowners can comply with the provisions of the Endangered Species Act in a more efficient manner. The Service has divided the 45 subdivisions into two categories, those in low/marginal quality Houston toad habitat, and those in medium quality Houston toad habitat. The EA/HCP requires the same avoidance, minimization, and mitigation efforts from every lot owner, within their respective category. This negates the need and cost in both time and money to prepare individual HCPs and go through separate public review processes. Since this EA/HCP will have already gone out for public review and comment (through this Notice in the Federal Register), and been finalized, it would cover 8,476 undeveloped lots, covering a maximum of 4,238 acres of sub-optimal Houston toad habitat, as noted in the EA/HCP in the 45 listed subdivisions, and endangered species permits could be issued in a matter of days as opposed to months under the current permitting process.

The EA/HCP has been assigned permit number TE-025997-0. The requested permit issuance, which will be for a period of 5 years, would authorize the incidental take of the endangered Houston toad (Bufo houstonensis). The proposed take would occur as a result of the possible construction and occupation on 8,476 remaining undeveloped lots, covering a maximum of 4,238 acres of sub-optimal Houston toad habitat, in 45 subdivisions in Bastrop County, Texas.

A determination of jeopardy to the species or a Finding of No Significant Impact (FONSI) will not be made until at least 30 days from the date of publication of this notice. This notice is provided pursuant to Section 10(c) of the Act and National Environmental Policy Act regulations (40 CFR 1506.6).

DATES: Written comments on the application should be received on or before July 26, 2000.

ADDRESSES: Persons wishing to review the EA/HCP may obtain a copy by contacting: Austin Office of the U.S. Fish and Wildlife Service, 10711 Burnet Road, Suite 200, Austin, Texas 78758 (512/490-0057). Documents will be available for public inspection by written request, or by appointment only, during normal business hours (8 to 4:30) at the U.S. Fish and Wildlife Service, Austin, Texas. Written data or comments concerning the EA/HCP should be submitted to the Field Supervisor, Austin Field Office of the U.S. Fish and Wildlife Service, at the above address. Please refer to permit number TE-025997-0 when submitting comments.

FOR FURTHER INFORMATION CONTACT: Contact the Austin Office of the U.S. Fish and Wildlife Service at the above address.

SUPPLEMENTARY INFORMATION: Section 9 of the Act prohibits the “taking” of endangered species such as the Houston toad. However, the Service, under limited circumstances, may issue permits to take endangered wildlife species incidental to, and not the purpose of, otherwise lawful activities. Regulations governing permits for endangered species are at 50 CFR 17.22.

Applicant

This action will permanently disturb a maximum of 0.5 acres of Houston toad habitat within each eligible lot and result in indirect impacts within the subdivision. Each applicant will compensate for this incidental take of the Houston toad by providing mitigation funds to the National Fish and Wildlife Foundation for the specific purpose of land acquisition, protection, and management within Houston toad habitat, as identified by the Service.

Bryan Arroyo,
Acting Regional Director, Region 2, Albuquerque, New Mexico.

[FR Doc. 00-16032 Filed 6-23-00; 8:45 am]

BILLING CODE 4510-55-U